FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants:

Seaspeed Overseas Shipping Co., Inc., 69 La Fante Lane, Bayonne, NJ 07002, Officer: John Trimarchi, Director/President (Qualifying Individual)

United Logistics Group, Inc., 20355 Via Sanlucar, Yorba Linda, CA 92887, Officer: Ling Zou, Director/President (Qualifying Individual)

Non-Vessel Operating Common Carrier and Ocean Freight Forwarder Transportation Intermediary Applicants:

Albacor Shipping (USA) Inc. d/b/a Pearl Line, 86 Brookwood Drive, Mahwah, NJ 07430, Officers: Bernd Ferber, President (Qualifying Individual), Gerald Ness, Vice President

Rodair International (Phoenix) Inc., 1224 W. Fairmont Drive, Tempe, AZ 85282, Officers: Nancy Greiner, Vice President (Qualifying Individual), Jeffrey Cullen, President

TLI Shipping, LLC, 4000 Blackburn Lane, Suite 250, Burtonsville, MD 20866, Officer: Mark T. Lambert, President (Qualifying Individual)

South West Marine, Inc., 400-C Ansin Blvd., Hallandale, FL 33009, Officer: Eti Cohen, Vice President (Qualifying Individual)

Ocean Freight Forwarder—Ocean Transportation Intermediary Applicants:

C.O. Logistic, 3711 Country Club, Drive #6, Long Beach, CA 90807, Pavao Sosic, Sole Proprietor

Fauveder (USA) Inc., 65 South 21st Street, 2nd Floor, Let Unit, Kenilworth, NJ 07033, Officers: Nicolas Lemiere, Managing Director (Qualifying Individual), Philippe Fauveder, President

Joseph B. Hohenstein Customhouse Brokers, 645 Indian Street, Suite 209, Savannah, GA 31401, Joseph B. Hohenstein, Sole Proprietor

Uniworld International, Inc., 1610 Tropic Park Drive, Sanford, FL 32773, Officers: M. Wael Shrourou, President (Qualifying Individual), Mona Z. Shrourou, Secretary

American Logistic Co. Inc., 10840 Warner Avenue, Suite 205, Fountain Valley, CA 92708, Officers: David Silverman, V. President of Sales (Qualifying Individual), Dennis Morrison, President

Kito Electronics Limited Company, 10530 N.W. 37th Terrace, Miami, FL 33178, Officers: Andres Messulam, General Partner, (Qualifying Individual), Mary Francis Messulam, Partner

V & M International Forwarders, Inc., 1343 N.W. 79th Terrace, Medley, FL 33166, Officers: Marcelino Vazquez, President (Qualifying Individual), Manuel Vazquez, Vice President

Dated: January 19, 2001.
Bryant L. VanBrakle,
Secretary.

[FR Doc. 01-2191 Filed 1-23-01; 8:45 am]

BILLING CODE 6730-01-P